DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet January 12 and 13, 2005, from 8:30 a.m. to 5 p.m. MST (10:30 a.m. to 7 p.m. EST).

ADDRESSES: Sheraton Tucson Hotel & Suites, 5151 E. Grant Road, Tucson, AZ 85712.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The FAA will hold the meeting at the location listed under the ADDRESSES heading of this notice. The meeting agenda will include the following topics:

• Small transport aircraft maintenance program development.

• Review and approval of HWG13 final report.

• Discussion of HWG12 recommendations.

• MMEL wiring issues.

• New requirements for design approval holders.

• Future of ATSRAC—New charter.

The meeting is open to the public; however, attendance will be limited by the size of the meeting room. The FAA will make the following services available if you request them by December 30, 2004.

• Teleconferencing.

• Sign and oral interpretation.

• A listening device.

Individuals using teleconferencing services and calling from outside the Washington, DC metropolitan area will be responsible for paying long-distance charges. To arrange for any of these services, contact the person listed under the FOR FURTHER INFORMATION CONTACT heading.

The public may present written statements to the Committee by providing 20 copies to the Committee's Executive Director. Public statements at the meeting will be considered if time allows. You may contact the individual under the FOR FURTHER INFORMATION CONTACT heading for additional instructions if you want to file a written statement.

Issued in Washington, DC, on December 16, 2004.
Brenda Courtney,
Acting Director, Office of Rulemaking.

[FR Doc. 04-28007 Filed 12-21-04; 8:45 am]

BILLING CODE 4910-13-P